DEPARTMENT OF TRANSPORTATION

Federal Aviation Administration

14 CFR Part 71

[Docket No. FAA-2006-24926; Airspace Docket No. 06-ASW-1]

RIN 2120-AA66

Establishment, Modification and Revocation of VOR Federal Airways; East Central United States

AGENCY: Federal Aviation Administration (FAA), DOT.

ACTION: Final rule.

SUMMARY: This action establishes 14 VOR Federal Airways (V-176, V-383, V-396, V-406, V-410, V-418, V-426, V-486, V-416, V-467, V-542, V-584, V-586, and V-609); modifies 12 VOR Federal Airways (V-14, V-26, V-40, V-72, V-75, V-90, V-96, V-103, V-116, V-297, V-435, and V-526); and revokes one VOR Federal Airway (V-42) over the East Central United States in support of the Midwest Airspace Enhancement Plan (MASE). It should be noted that the FAA is withdrawing the proposal to establish VOR Federal Airway V-414 and delaying action to establish V-65 and modify V-133. Additionally, editorial changes are made to route numbers and the order of route elements for V-176, V-383, V-410, V-426, V-467, and V-486. The FAA is taking this action to enhance safety and to improve the efficient use of the navigable airspace assigned to the Chicago, Cleveland, and Indianapolis Air Route Traffic Control Centers (ARTCC).

DATES: Effective Date: 0901 UTC, March 15, 2007. The Director of the Federal Register approves this incorporation by reference action under 1 CFR part 51, subject to the annual revision of FAA Order 7400.9 and publication of conforming amendments.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

History

On June 16, 2006, the FAA published in the Federal Register a notice of proposed rulemaking to establish 16 VOR Federal Airways (V-65, V-176, V-383, V-396, V-406, V-410, V-414, V-416, V-418, V-426, V-467, V-486, V-542, V-584, V-586, and V-609); modify 13 VOR Federal Airways (V-14, V-26, V-40, V-72, V-75, V-90, V-96, V-103, V-116, V-133, V-297, V-435, and V-526); and revoke one VOR Federal Airway (V-42) (71 FR 34854).

Interested parties were invited to participate in this rulemaking effort by submitting written comments on the proposal. No comments were received objecting to the proposal.

Subsequent to the issuance of the notice, the FAA decided to withdraw the proposal to establish V-414 because further evaluation revealed that the route did not intersect United States airspace. Additionally, the FAA elected not to include the establishment V-65 and modification of V-133 in this action; these proposed airways will be addressed in a future final rule.

It should be noted that, due to format requirements, editorial changes were made to some of the route numbers and route descriptions listed in the notice of proposed rulemaking. Specifically, V-176 was renumbered as V-383 and V-383 was renumbered as V-176. Also, the order of route elements was reversed in the descriptions for V-383 (proposed as V-176), V-410, V-426, V-467, and V-486.

VOR Federal Airways are published in paragraph 6010 of FAA Order 7400.9P dated September 1, 2006, and effective September 15, 2006, which is incorporated by reference in 14 CFR 71.1. The VOR Federal Airways listed in this document will be published subsequently in the Order.

The Rule

This action amends Title 14 Code of Federal Regulations (14 CFR) part 71 to establish 14 VOR Federal Airways (V-176, V-383, V-396, V-406, V-410, V-418, V-426, V-486, V-416, V-467, V-542, V-584, V-586, and V-609); modify 12 VOR Federal Airways (V-14, V-26, V-40, V-72, V-75, V-90, V-96, V-103, V-116, V-297, V-435, and V-526); and revoke one VOR Federal Airway (V-42) over the East Central United States within the airspace assigned to the Chicago, Cleveland, and Indianapolis ARTCCs. This action enhances safety and facilitates the more flexible and efficient use of the navigable airspace. Further, this action enhances the management of aircraft operations within the Chicago, Cleveland, and Indianapolis ARTCCs' areas of responsibility.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environment Policy Act in accordance with 311a and 311b., FAA Order 1050.1E, “Environmental Impacts: Policies and Procedures”. This airspace action is not expected to cause any potentially significant environment impacts, and no extraordinary circumstances exist that warrant preparation of environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9P, Airspace Designations and Reporting Points, dated September 1, 2006, and effective September 15, 2006, is amended as follows:

Paragraph 6010 VOR Federal Airways.

* * * * *

V-14 [Revised]

From Chisum, NM, via Lubbock, TX; Childress, TX; Hobart, OK; Will Rogers, OK; INT Will Rogers 052° and Tulsa, OK 246° radials; Tulsa; Neosho, MO; Springfield, MO; Vichy, MO; INT Vichy 067° and St. Louis, MO, 225° radials; Vandalia, IL; Terre Haute, IN; Brickyard, IN; Muncie, IN; Findlay, OH; INT Findlay 079° and DRYER, OH, 240° radials; DRYER; Jefferson, OH; Erie, PA; Dunkirk, NY; Buffalo, NY; Geneseo, NY; Georgetown, NY; INT Georgetown 093° and Albany, NY, 270° radials; Albany, NY; INT Albany 084° and Gardner, MA, 284° radials; Gardner; to Norwich, CT.

V-26 [Revised]

From Blue Mesa, CO, via Montrose, CO; 13 miles, 112 MSL, 131 MSL; Grand Junction, CO; Meeker, CO; Cherokee, WY; Muddy Mountain, WY; 14 miles 12 AGL, 37 miles 75 MSL, 84 miles 90 MSL, 17 miles 12 AGL; Rapid City, SD; Philip, SD; Pierre, SD; Huron, SD; Redwood Falls, MN; Farmington, MN; Eau Claire, WI; Waussau, WI; Green Bay, WI; INT Green Bay 116° and White Cloud, MI 302° radials; White Cloud; Lansing, MI; Salem, MI; Detroit, MI; INT Detroit 138° and DRYER, OH, 309° radials; DRYER. The airspace within Canada is excluded.

V-40 [Revised]

From DRYER, OH; Briggs, OH; INT Briggs 077° and Youngstown, OH, 177° radials.

V-72 [Revised]

From Razorback, AR, Dogwood, MO; INT Dogwood 058° and Maples, MO 236° radials; Maples; Farmington, MO; Centralia, IL; Bible Grove, IL; Mattoon, IL; to Bloomington, IL.

V-75 [Revised]

From Morgantown, WV; Bellaire, OH; Briggs, OH; DRYER, OH; INT DRYER 325° and Waterville, OH, 062° radials.

V-90 [Revised]

From Salem, MI; INT Salem 092° and Dunkirk, NY 260° radials; Dunkirk. The airspace within Canada is excluded.

V-96 [Revised]

From Brickyard, IN; Kokomo, IN; Fort Wayne, IN; INT Fort Wayne 071° and Detroit, MI, 211° radials; to Detroit.

V-116 [Revised]

From INT Chicago O'Hare, IL, 092° and Chicago Heights, IL, 013° radials; INT Chicago O'Hare 092° and Keeler, MI, 256° radials; Keeler; Kalamazoo, MI; INT Kalamazoo 089° and Jackson, MI, 265° radials; Jackson; INT Jackson 089° and Salem, MI, 252° radials; Salem; Windsor, ON, Canada; INT Windsor 095° and Erie, PA, 281° radials; Erie; Bradford, PA; Stonyfork, PA; INT Stonyfork 098° and Wilkes-Barre, PA, 310° radials; Wilkes-Barre; INT Wilkes-Barre 084° and Sparta, NJ, 300° radials; to Sparta. The airspace within Canada is excluded.

V-103 [Revised]

From Chesterfield, SC; Greensboro, NC; Roanoke, VA; Elkins, WV; Clarksburg, WV; Bellaire, OH; INT Bellaire 327° and Akron, OH, 181° radials; Akron; INT Akron 325° and Detroit, MI, 100° radials; Detroit; Pontiac, MI, to Lansing, MI. The airspace within Canada is excluded.

V-297 [Revised]

From Johnstown, PA; INT Johnstown 320° and Clarion, PA, 176° radials; INT Johnstown 315° and Clarion, PA, 222° radials; INT Clarion 269° and Youngstown, OH 116° radials; Akron, OH; INT Akron 305° and Waterville, OH 062° radials. The airspace within Canada is excluded.

V-435 [Revised]

From Rosewood, OH; INT Rosewood 050° and DRYER, OH, 240° radials; to DRYER.

V-526 [Revised]

From Northbrook, IL; INT Northbrook 095° and Gipper, MI, 310° radials; to Gipper.

V-42 [Revoked]

V-176 [New]

From Carleton, MI; INT Carleton 097° and Chardon, OH, 294° radials; INT Chardon 294° and Dryer, OH 357° radials. The airspace within Canada is excluded.

V-383 [New]

From Rosewood, OH; INT Rosewood 023° and Detroit, MI 178° radials; to Detroit.

V-396 [New]

From Windsor, ON, Canada; INT Windsor 095° and Chardon, OH, 320° radials; to Chardon. The airspace within Canada is excluded.

V-406 [New]

From Salem, MI; INT Salem 092° and London, ON, Canada, 205° radials; London. The airspace within Canada is excluded.

V-410 [New]

From Pontiac, MI; INT Pontiac 085° and London, ON, Canada 252° radials; to London. The airspace within Canada is excluded.

V-416 [New]

From Rosewood, OH, INT Rosewood 041° and Mansfield, OH, 262° radials; Mansfield; INT Mansfield 045° and Sandusky, OH, 107° radials.

V-418 [New]

From Salem, MI; INT Salem 092° and Jamestown, NY, 275° radials; to Jamestown. The airspace within Canada is excluded.

V-426 [New]

From Carleton, MI; INT Carleton 156° and Dryer, OH 260° radials; to Dryer.

V-467 [New]

From Richmond, IN; Waterville, OH; Detroit, MI.

V-486 [New]

From INT Akron, OH, 316° and Chardon, OH, 260° radials; Chardon; INT Chardon, 074° and Jamestown, NY, 238° radials; Jamestown.

V-542 [New]

From Rosewood, OH, INT Rosewood 041° and Mansfield, OH, 262° radials; Mansfield; INT Mansfield 098° and Akron, OH, 233° radials; Akron; Youngstown, OH; Tidioute, PA; Bradford, PA; INT Bradford 078° and Elmira, NY, 252° radials; Elmira; Binghampton, NY; Rockdale, NY; Albany, NY; Cambridge, NY; INT Cambridge 063° and Lebanon, NH, 214° radials; to Lebanon.

V-584 [New]

From Waterville, OH; INT Waterville 113° and DRYER, OH 260° radials; to DRYER.

V-586 [New]

From INT Kansas City, MO 077° and Napoleon, MO, 005° radials, via Macon, MO; Quincy, IL; Peoria, IL; Pontiac, IL; Joliet, IL.

V-609 [New]

From Saginaw, MI; INT Saginaw 353° and Pellston, MI, 164° radials; to Pellston.

* * * * *

Issued in Washington, DC, on January 9, 2007.
Edith V. Parish,
Manager, Airspace and Rules.

[FR Doc. E7-600 Filed 1-17-07; 8:45 am]

BILLING CODE 4910-13-P